ENVIRONMENTAL PROTECTION AGENCY

40 CFR Parts 52 and 81

[Region II Docket No. NJ52-243(b); FRL-7264-5]

Approval and Promulgation of Implementation Plans and Designation of Areas for Air Quality Planning Purposes; State of New Jersey

AGENCY: Environmental Protection Agency (EPA).

ACTION: Proposed rule.

SUMMARY: The EPA is proposing to approve the State Implementation Plan (SIP) revision submitted on January 15, 2002 by the State of New Jersey to redesignate the New Jersey portion of the New York-Northern New Jersey-Long Island Carbon Monoxide (CO) nonattainment area from nonattainment to attainment of the National Ambient Quality Standard (NAAQS) for CO. EPA is proposing to approve the New Jersey CO maintenance plan because it provides for continued maintenance of the CO NAAQS.

EPA is also proposing to approve New Jersey's CO attainment demonstration that was submitted on August 7, 1998. This will provide for full approval of New Jersey's State Implementation Plan (SIP) for CO. Additionally, EPA is proposing to approve the 1997 transportation conformity budget submitted on December 10, 1999 as an addendum to the New Jersey CO attainment demonstration submitted on August 7, 1998. Finally, EPA is proposing to approve the 2007 and 2014 transportation conformity budgets found in New Jersey's CO maintenance plan.

In the “Rules and Regulations” section of this Federal Register, EPA is approving the State's SIP submittal, as a direct final rule without prior proposal because the Agency views these as noncontroversial submittals and anticipates no adverse comments. A detailed rationale for the approval is set forth in the direct final rule. If EPA receives no adverse comments, EPA will not take further action on this proposed rule. If EPA receives adverse comments, EPA will withdraw the direct final rule and it will not take effect. EPA will address all public comments in a subsequent final rule based on this proposed rule. The EPA will not institute a second comment period on this action. Any parties interested in commenting on this action should do so at this time.

DATES: Written comments must be received on or before September 23, 2002.

ADDRESSES: All comments should be addressed to: Raymond Werner, Chief, Air Programs Branch, Environmental Protection Agency, Region II Office, 290 Broadway, New York, New York 10007-1866.

Copies of the State submittals are available at the following addresses for inspection during normal business hours:

Environmental Protection Agency, Region II Office, 290 Broadway, 25th Floor, New York, New York 10007-1866.

New Jersey Department of Environmental Protection, Office of Air Quality Management, Bureau of Air Pollution Control, 401 East State Street, CN027, Trenton, New Jersey 08625.

FOR FURTHER INFORMATION CONTACT: Henry Feingersh, Air Programs Branch, Environmental Protection Agency, 290 Broadway, 25th Floor, New York, New York 10278, (212) 637-4249.

SUPPLEMENTARY INFORMATION: For additional information see the direct final rule which is located in the Rules Section of this Federal Register.

Dated: August 7, 2002.
William J. Muszynski,
P.E., Deputy Regional Administrator, Region 2.

[FR Doc. 02-21284 Filed 8-22-02; 8:45 am]

BILLING CODE 6560-50-P